DEPARTMENT OF AGRICULTURE

Food and Nutrition Service

7 CFR Part 226

RIN 0584-AD67

Child and Adult Care Food Program: Increasing the Duration of Tiering Determinations for Day Care Homes; Confirmation of Effective Date

AGENCY: Food and Nutrition Service, USDA.

ACTION: Final rule; confirmation of effective date.

SUMMARY: The provisions of the final rule entitled, Child and Adult Care Food Program: Increasing the Duration of Tiering Determinations for Day Care Homes, published on February 22, 2005, at 70 FR 8501, could not become effective until approval of the associated information collection requirements by the Office of Management and Budget (OMB). Those requirements were cleared by OMB on August 18, 2005 under OMB Control Number 0584-0055. This document announces the effective date of the provisions contained in the originally-published rule.

DATES: The amendments to §§ 226.6(f)(1)(iii) and 226.15(f), published in the Federal Register on February 22, 2005, at 70 FR 8501, are effective as of August 18, 2005.

FOR FURTHER INFORMATION CONTACT: Keith Churchill, Section Chief, Policy and Program Development Branch, Child Nutrition Division, Food and Nutrition Service, USDA, 3101 Park Center Drive, Alexandria, VA 22302, phone (703) 305-2590.

Dated: November 17, 2005.
Roberto Salazar,
Administrator.

[FR Doc. 05-23580 Filed 12-2-05; 8:45 am]

BILLING CODE 3410-30-P